DEPARTMENT OF ENERGY

Federal Energy Regulatory Commission

Combined Notice of Filings

Take notice that the Commission has received the following Natural Gas Pipeline Rate and Refund Report filings:

Filings Instituting Proceedings

Docket Numbers: RP07-34-000.

Applicants: PANHANDLE JOINT PARTIES, Southwest Gas Storage Company, Panhandle Complainants, Panhandle Complainants v. Southwest Gas.

Description: Southwest Gas Storage Company submits its Semi-Annual Compliance Report, for the period May 1, 2012 through October 31, 2012.

Filed Date: 11/30/12.

Accession Number: 20121130-5066.

Comments Due: 5 p.m. ET 12/12/12.

Docket Numbers: RP07-541-000.

Applicants: Southwest Gas Storage Company.

Description: Southwest Gas Storage Company submits its Semi-Annual Compliance Report, for the period May 1, 2012 through October 31, 2012.

Filed Date: 11/30/12.

Accession Number: 20121130-5066.

Comments Due: 5 p.m. ET 12/12/12.

Docket Numbers: RP13-319-000.

Applicants: Gulf South Pipeline Company, LP.

Description: Cap Rel Neg Rate Agmt: HK 37367 to Sequent 40281 to be effective 12/1/2012.

Filed Date: 11/29/12.

Accession Number: 20121129-5020.

Comments Due: 5 p.m. ET 12/11/12.

Docket Numbers: RP13-320-000.

Applicants: Gulf South Pipeline Company, LP.

Description: Amendments to Neg Rate Agmts: QEP 36601-13 & 37657-27 to be effective 12/1/2012.

Filed Date: 11/29/12.

Accession Number: 20121129-5021.

Comments Due: 5 p.m. ET 12/11/12.

Docket Numbers: RP13-321-000.

Applicants: Gulf Crossing Pipeline Company LLC.

Description: Cap Rel Neg Rate Agmts: VanGuard 597 & 598 to Tenaska 715 & 716 to be effective 12/1/2012.

Filed Date: 11/29/12.

Accession Number: 20121129-5022.

Comments Due: 5 p.m. ET 12/11/12.

Docket Numbers: RP13-322-000.

Applicants: Algonquin Gas Transmission, LLC.

Description: Negotiated Rates Nov 2012 Cleanup to be effective 1/1/2013.

Filed Date: 11/29/12.

Accession Number: 20121129-5033.

Comments Due: 5 p.m. ET 12/11/12.

Docket Numbers: RP13-323-000.

Applicants: El Paso Natural Gas Company, L.L.C.

Description: Article 11.2(a) Inflation Adjustment Filing to be effective 1/1/2013.

Filed Date: 11/29/12.

Accession Number: 20121129-5050.

Comments Due: 5 p.m. ET 12/11/12.

Docket Numbers: RP13-324-000.

Applicants: Texas Eastern Transmission, LP.

Description: DTI 800317 Non-conforming Agreement to be effective 12/1/2012.

Filed Date: 11/29/12.

Accession Number: 20121129-5062.

Comments Due: 5 p.m. ET 12/11/12.

Docket Numbers: RP13-325-000.

Applicants: Natural Gas Pipeline Company of America.

Description: Contract Amendment to Rate Schedule X-50 to be effective 12/30/2012.

Filed Date: 11/29/12.

Accession Number: 20121129-5070.

Comments Due: 5 p.m. ET 12/11/12.

Docket Numbers: RP13-326-000.

Applicants: Rockies Express Pipeline LLC.

Description: Operating Company Name Change to Tallgrass to be effective 12/1/2012.

Filed Date: 11/29/12.

Accession Number: 20121129-5077.

Comments Due: 5 p.m. ET 12/11/12.

Docket Numbers: RP13-326-000.

Applicants: Rockies Express Pipeline LLC.

Description: Rockies Express Pipeline LLC submits corrected transmittal letter.

Filed Date: 11/30/12.

Accession Number: 20121130-5055.

Comments Due: 5 p.m. ET 12/12/12.

Docket Numbers: RP13-327-000.

Applicants: Southern Star Central Gas Pipeline, Inc.

Description: Southern Star Central Gas Pipeline, Inc. Annual Operational Flow Order Report.

Filed Date: 11/29/12.

Accession Number: 20121129-5128.

Comments Due: 5 p.m. ET 12/11/12.

Docket Numbers: RP13-328-000.

Applicants: Natural Gas Pipeline Company of America.

Description: Wisconsin Electric Amendment Filing to be effective 12/1/2012.

Filed Date: 11/29/12.

Accession Number: 20121129-5142.

Comments Due: 5 p.m. ET 12/11/12.

Docket Numbers: RP13-329-000.

Applicants: Empire Pipeline, Inc.

Description: Deferred State Income Tax Filing to be effective 12/1/2012.

Filed Date: 11/29/12.

Accession Number: 20121129-5155.

Comments Due: 5 p.m. ET 12/11/12.

Docket Numbers: RP13-330-000.

Applicants: East Cheyenne Gas Storage, LLC.

Description: Revised Form Exhibit to be effective 12/29/2012.

Filed Date: 11/29/12.

Accession Number: 20121129-5182.

Comments Due: 5 p.m. ET 12/11/12.

Docket Numbers: RP13-331-000.

Applicants: Gas Transmission Northwest LLC.

Description: Resetting Medford E-2 to be effective 1/1/2013.

Filed Date: 11/30/12.

Accession Number: 20121130-5049.

Comments Due: 5 p.m. ET 12/12/12.

Docket Numbers: RP13-332-000.

Applicants: Dominion Transmission, Inc.

Description: DTI—November 30, 2012 Negotiated Rate Agreements to be effective 12/1/2012.

Filed Date: 11/30/12.

Accession Number: 20121130-5065.

Comments Due: 5 p.m. ET 12/12/12.

Docket Numbers: RP13-333-000.

Applicants: Gas Transmission Northwest LLC.

Description: Gas Transmission Northwest LLC Annual Fuel Charge Adjustment Filing.

Filed Date: 11/30/12.

Accession Number: 20121130-5068.

Comments Due: 5 p.m. ET 12/12/12.

Docket Numbers: RP13-334-000.

Applicants: Columbia Gas Transmission, LLC.

Description: OTRA—Nov 2012 to be effective 1/1/2013.

Filed Date: 11/30/12.

Accession Number: 20121130-5085.

Comments Due: 5 p.m. ET 12/12/12.

Docket Numbers: RP13-335-000.

Applicants: National Fuel Gas Supply Corporation.

Description: TSCA for 2013 to be effective 1/1/2013.

Filed Date: 11/30/12.

Accession Number: 20121130-5088.

Comments Due: 5 p.m. ET 12/12/12.

Docket Numbers: RP13-336-000.

Applicants: Questar Pipeline Company.

Description: CHDP Zone Map Version 1.0.0 to be effective 1/1/2013.

Filed Date: 11/30/12.

Accession Number: 20121130-5095.

Comments Due: 5 p.m. ET 12/12/12.

Docket Numbers: RP13-337-000.

Applicants: Questar Southern Trails Pipeline Company.

Description: Statement of Negotiated Rates Version 3.0.0 to be effective 12/30/2012.

Filed Date: 11/30/12.

Accession Number: 20121130-5105.

Comments Due: 5 p.m. ET 12/12/12.

Docket Numbers: RP13-338-000.

Applicants: Southern Star Central Gas Pipeline, Inc.

Description: Southern Star Central Gas Pipeline, Inc. Annual Cash-Out Refund Report.

Filed Date: 11/30/12.

Accession Number: 20121130-5106.

Comments Due: 5 p.m. ET 12/12/12.

Docket Numbers: RP13-339-000.

Applicants: KPC Pipeline, LLC.

Description: Request for Waiver of Tariff Provision of KPC Pipeline, LLC.

Filed Date: 11/30/12.

Accession Number: 20121130-5107.

Comments Due: 5 p.m. ET 12/12/12.

Docket Numbers: RP13-340-000.

Applicants: Mojave Pipeline Company, LLC.

Description: Annual Fuel and L&U Filing effective 1/1/2013.

Filed Date: 11/30/12.

Accession Number: 20121130-5109.

Comments Due: 5 p.m. ET 12/12/12.

Docket Numbers: RP13-341-000.

Applicants: Florida Gas Transmission Company, LLC.

Description: Exhibit B Amendment to be effective 12/1/2012.

Filed Date: 11/30/12.

Accession Number: 20121130-5139.

Comments Due: 5 p.m. ET 12/12/12.

Docket Numbers: RP13-342-000.

Applicants: Southern Natural Gas Company, L.L.C.

Description: Annual Storage Cost Reconciliation Mechanism Report of Southern Natural Gas Company, L.L.C.

Filed Date: 11/30/12.

Accession Number: 20121130-5152.

Comments Due: 5 p.m. ET 12/12/12.

Docket Numbers: RP13-343-000.

Applicants: CenterPoint Energy Gas Transmission Comp.

Description: CEGT LLC—Sligo Lease LUFG Tracker Filing—2012 to be effective 1/1/2013.

Filed Date: 11/30/12.

Accession Number: 20121130-5156.

Comments Due: 5 p.m. ET 12/12/12.

Docket Numbers: RP13-344-000.

Applicants: Tennessee Gas Pipeline Company, L.L.C.

Description: Tennessee Gas Pipeline Company, L.L.C. 2011-2012 Cashout Report.

Filed Date: 11/30/12.

Accession Number: 20121130-5159.

Comments Due: 5 p.m. ET 12/12/12.

Docket Numbers: RP13-345-000.

Applicants: MarkWest Pioneer, L.L.C.

Description: MarkWest Pioneer, L.L.C. submits Quarterly Fuel Adjustment Filing.

Filed Date: 11/30/12.

Accession Number: 20121130-5160.

Comments Due: 5 p.m. ET 12/12/12.

Docket Numbers: RP13-346-000.

Applicants: Northern Natural Gas Company.

Description: 20121130 Negotiated Rate to be effective 12/1/2012.

Filed Date: 11/30/12.

Accession Number: 20121130-5182.

Comments Due: 5 p.m. ET 12/12/12.

Docket Numbers: RP13-347-000.

Applicants: Questar Pipeline Company.

Description: Questar Pipeline Company submits tariff filing per 154.204: FGRP for 2013 to be effective 1/1/2013.

Filed Date: 11/30/12.

Accession Number: 20121130-5189.

Comments Due: 5 p.m. ET 12/12/12.

Docket Numbers: RP13-348-000.

Applicants: El Paso Natural Gas Company, L.L.C.

Description: El Paso Natural Gas Company, L.L.C. submits tariff filing per 154.403(d)(2): Annual FL&U Filing effective 1/1/2013.

Filed Date: 11/30/12.

Accession Number: 20121130-5338.

Comments Due: 5 p.m. ET 12/12/12.

Docket Numbers: RP13-349-000.

Applicants: Kern River Gas Transmission Company.

Description: Kern River Gas Transmission Company submits tariff filing per 154.204: 2013 Non-leap Year Rates to be effective 1/1/2013.

Filed Date: 11/30/12.

Accession Number: 20121130-5340.

Comments Due: 5 p.m. ET 12/12/12.

Docket Numbers: RP13-350-000.

Applicants: Ruby Pipeline, L.L.C.

Description: Ruby Pipeline, L.L.C. submits tariff filing per 154.403(d)(2): FL&U and EPC Filing effective 1/1/2013.

Filed Date: 11/30/12.

Accession Number: 20121130-5346.

Comments Due: 5 p.m. ET 12/12/12.

Docket Numbers: RP13-351-000.

Applicants: Transcontinental Gas Pipe Line Company.

Description: Transcontinental Gas Pipe Line Company, LLC submits tariff filing per 154.403: S-2 Tracker Filing Effective 12/1/2012.

Filed Date: 11/30/12.

Accession Number: 20121130-5349.

Comments Due: 5 p.m. ET 12/12/12.

Docket Numbers: RP13-352-000.

Applicants: Big Sandy Pipeline, LLC.

Description: Big Sandy Pipeline, LLC submits tariff filing per 154.204: Negotiated Rates for Hayden Harper to be effective 12/1/2012.

Filed Date: 11/30/12.

Accession Number: 20121130-5371.

Comments Due: 5 p.m. ET 12/12/12.

Docket Numbers: RP13-353-000.

Applicants: Colorado Interstate Gas Company, L.L.C.

Description: Colorado Interstate Gas Company, L.L.C. submits tariff filing per 154.403(d)(2): Quarterly FL&U Filing effective 1/1/2013.

Filed Date: 11/30/12.

Accession Number: 20121130-5377.

Comments Due: 5 p.m. ET 12/12/12.

Docket Numbers: RP13-354-000.

Applicants: Rockies Express Pipeline LLC.

Description: Rockies Express Pipeline LLC submits tariff filing per 154.204: Neg Rate 2012-11-30 WIC, Oxy (Perm Release etc.) to be effective 12/1/2012.

Filed Date: 11/30/12.

Accession Number: 20121130-5387.

Comments Due: 5 p.m. ET 12/12/12.

Docket Numbers: RP13-355-000.

Applicants: Alliance Pipeline L.P.

Description: Alliance Pipeline L.P. submits tariff filing per 154.204: 2013 Rate Filing to be effective 1/1/2013.

Filed Date: 11/30/12.

Accession Number: 20121130-5388.

Comments Due: 5 p.m. ET 12/12/12.

Docket Numbers: RP13-356-000.

Applicants: Iroquois Gas Transmission System, L.P.

Description: Iroquois Gas Transmission System, L.P. submits tariff filing per 154.204: 11/30/12 HUB Negotiated Rates Blanket Filing 3 to be effective 12/1/2012.

Filed Date: 11/30/12.

Accession Number: 20121130-5396.

Comments Due: 5 p.m. ET 12/12/12.

Docket Numbers: RP13-357-000.

Applicants: East Cheyenne Gas Storage, LLC.

Description: East Cheyenne Gas Storage, LLC submits tariff filing per 154.204: ECGS Nov 30, 2012 Non-Conforming Agreements Filing to be effective 12/31/2012.

Filed Date: 11/30/12.

Accession Number: 20121130-5400.

Comments Due: 5 p.m. ET 12/12/12.

Docket Numbers: RP13-358-000.

Applicants: Iroquois Gas Transmission System, L.P.

Description: Iroquois Gas Transmission System, L.P. submits tariff filing per 154.204: 11/30/12 Negotiatied Rates—Citigroup Energy (RTS) Amend 1 to be effective 12/1/2012.

Filed Date: 11/30/12.

Accession Number: 20121130-5403.

Comments Due: 5 p.m. ET 12/12/12.

Docket Numbers: RP13-359-000.

Applicants: Fayetteville Express Pipeline LLC.

Description: Fayetteville Express Pipeline LLC submits tariff filing per 154.203: FEP 2012 NAESB Filing—Compliance with 11/16/12 Order to be effective 12/1/2012.

Filed Date: 11/30/12.

Accession Number: 20121130-5405.

Comments Due: 5 p.m. ET 12/12/12.

Docket Numbers: RP13-360-000.

Applicants: El Paso Natural Gas Company, L.L.C.

Description: El Paso Natural Gas Company, L.L.C. submits tariff filing per 154.204: Non-Conforming TSA Filing to be effective 1/1/2013.

Filed Date: 11/30/12.

Accession Number: 20121130-5409.

Comments Due: 5 p.m. ET 12/12/12.

Docket Numbers: RP13-361-000.

Applicants: Gulf South Pipeline Company, LP.

Description: Gulf South Pipeline Company, LP submits tariff filing per 154.204: Devon 34694-43 Amendment to Neg Rate Agmt filing to be effective 12/7/2012.

Filed Date: 12/3/12.

Accession Number: 20121203-5023.

Comments Due: 5 p.m. ET 12/17/12.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP12-1114-001.

Applicants: Kern River Gas Transmission Company.

Description: 2012 NAESB 2.0 Compliance Filing to be effective 12/1/2012.

Filed Date: 11/29/12.

Accession Number: 20121129-5154.

Comments Due: 5 p.m. ET 12/11/12.

Docket Numbers: RP13-117-001.

Applicants: Columbia Gas Transmission, LLC.

Description: NAESB 2.0 Compliance Filing to be effective 12/1/2012.

Filed Date: 11/29/12.

Accession Number: 20121129-5052.

Comments Due: 5 p.m. ET 12/11/12.

Docket Numbers: RP13-117-002.

Applicants: Columbia Gas Transmission, LLC.

Description: NAESB Req. Extension of Time 5.4.16 to be effective 12/1/2012.

Filed Date: 11/29/12.

Accession Number: 20121129-5180.

Comments Due: 5 p.m. ET 12/11/12.

Docket Numbers: RP13-118-001.

Applicants: Columbia Gulf Transmission Company.

Description: NAESB 2.0 Compliance Filing to be effective 12/1/2012.

Filed Date: 11/29/12.

Accession Number: 20121129-5064.

Comments Due: 5 p.m. ET 12/11/12.

Docket Numbers: RP13-118-002.

Applicants: Columbia Gulf Transmission Company.

Description: NAESB 2.0 Extension of Time of 5.4.16 to be effective 12/1/2012.

Filed Date: 11/29/12.

Accession Number: 20121129-5178.

Comments Due: 5 p.m. ET 12/11/12.

Docket Numbers: RP13-121-002.

Applicants: Crossroads Pipeline Company.

Description: NAESB 2.0 Req. Extension of Time 5.4.16 to be effective 12/1/2012.

Filed Date: 11/29/12.

Accession Number: 20121129-5177.

Comments Due: 5 p.m. ET 12/11/12.

Docket Numbers: RP13-122-001.

Applicants: Central Kentucky Transmission Company.

Description: NAESB 2.0 Req. Extension of Time 5.4.16 to be effective 12/1/2012.

Filed Date: 11/29/12.

Accession Number: 20121129-5181.

Comments Due: 5 p.m. ET 12/11/12.

Docket Numbers: RP13-124-001.

Applicants: Hardy Storage Company, LLC.

Description: NAESB 2.0 Req. Extension of Time 5.4.16 to be effective 12/1/2012.

Filed Date: 11/29/12.

Accession Number: 20121129-5176.

Comments Due: 5 p.m. ET 12/11/12.

Docket Numbers: RP13-208-001.

Applicants: Gulf South Pipeline Company, LP.

Description: Compliance filing in Docket No. RP13-208-000 to be effective 12/1/2012.

Filed Date: 11/29/12.

Accession Number: 20121129-5076.

Comments Due: 5 p.m. ET 12/11/12.

Docket Numbers: RP12-1091-001.

Applicants: Tallgrass Interstate Gas Transmission, L.

Description: NAESB 2.0 Compliance to Original Filing to be effective 12/1/2012.

Filed Date: 11/30/12.

Accession Number: 20121130-5004.

Comments Due: 5 p.m. ET 12/12/12.

Docket Numbers: RP12-1116-001.

Applicants: Transwestern Pipeline Company, LLC.

Description: Transwestern Pipeline Company, LLC submits tariff filing per 154.203: 2012 TW NAESB 2.0 Compliance with Order Filing to be effective 12/1/2012.

Filed Date: 11/30/12.

Accession Number: 20121130-5383.

Comments Due: 5 p.m. ET 12/12/12.

Docket Numbers: RP13-10-001.

Applicants: Gulf Crossing Pipeline Company LLC.

Description: Compliance filing in Docket No. RP13-10-000 to be effective 12/1/2012.

Filed Date: 11/30/12.

Accession Number: 20121130-5077.

Comments Due: 5 p.m. ET 12/12/12.

Docket Numbers: RP13-120-001.

Applicants: Millennium Pipeline Company, LLC.

Description: Millennium Pipeline Company, LLC submits tariff filing per 154.203: NAESB 2.0 Compliance to be effective 12/1/2012.

Filed Date: 11/30/12.

Accession Number: 20121130-5339.

Comments Due: 5 p.m. ET 12/12/12.

Docket Numbers: RP13-120-002.

Applicants: Millennium Pipeline Company, LLC.

Description: Millennium Pipeline Company, LLC submits tariff filing per 154.203: NAESB 2.0 Request for Extension of Time to be effective 12/1/2012.

Filed Date: 11/30/12.

Accession Number: 20121130-5386.

Comments Due: 5 p.m. ET 12/12/12.

Docket Numbers: RP13-125-001.

Applicants: Northwest Pipeline GP.

Description: Northwest Pipeline GP submits tariff filing per 154.203: RP13-125-001 Avista Non-Conforming Compliance Filing to be effective 11/2/2012.

Filed Date: 11/30/12.

Accession Number: 20121130-5341.

Comments Due: 5 p.m. ET 12/12/12.

Docket Numbers: RP13-24-001.

Applicants: Southern Natural Gas Company, L.L.C.

Description: Order No. 587-V Compliance Filing Compliance to be effective 12/1/2012.

Filed Date: 11/30/12.

Accession Number: 20121130-5070.

Comments Due: 5 p.m. ET 12/12/12.

Docket Numbers: RP13-25-001.

Applicants: Southern LNG Company, L.L.C.

Description: Order No. 587-V Compliance Filing Compliance to be effective 12/1/2012.

Filed Date: 11/30/12.

Accession Number: 20121130-5071.

Comments Due: 5 p.m. ET 12/12/12.

Docket Numbers: RP13-55-001.

Applicants: Elba Express Company, L.L.C.

Description: Order No. 587-V Compliance Filing Compliance to be effective 12/1/2012.

Filed Date: 11/30/12.

Accession Number: 20121130-5072.

Comments Due: 5 p.m. ET 12/12/12.

Docket Numbers: RP13-85-001.

Applicants: White River Hub, LLC.

Description: White River Hub, LLC Compliance Filing—Order 587-V/NAESB 2.0 to be effective 12/1/2012.

Filed Date: 11/30/12.

Accession Number: 20121130-5104.

Comments Due: 5 p.m. ET 12/12/12.

Docket Numbers: RP13-89-001.

Applicants: Questar Overthrust Pipeline Company.

Description: Order 587-V NAESB 2.0 Compliance Filing, Revised Section 28 to be effective 12/1/2012.

Filed Date: 11/30/12.

Accession Number: 20121130-5103.

Comments Due: 5 p.m. ET 12/12/12.

Docket Numbers: RP13-95-001.

Applicants: Wyoming Interstate Company, L.L.C.

Description: Order No. 587-V Compliance to be effective 12/1/2012.

Filed Date: 11/30/12.

Accession Number: 20121130-5180.

Comments Due: 5 p.m. ET 12/12/12.

Docket Numbers: RP12-1089-001.

Applicants: Trailblazer Pipeline Company LLC.

Description: Trailblazer Pipeline Company LLC submits tariff filing per 154.203: NAESB 2.0 Compliance Filing to be effective 12/1/2012.

Filed Date: 12/3/12.

Accession Number: 20121203-5002.

Comments Due: 5 p.m. ET 12/17/12.

Any person desiring to protest in any the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: December 3, 2012.
Nathaniel J. Davis, Sr.,
Deputy Secretary.

[FR Doc. 2012-29832 Filed 12-10-12; 8:45 am]

BILLING CODE 6717-01-P